DEPARTMENT OF COMMERCE

International Trade Administration

C-533-825

Polyethylene Terephthalate Film, Sheet, and Strip From India: Final Results of the Expedited Sunset Review of the Countervailing Duty Order

AGENCY: Enforcement and Compliance, International Trade Administration, Department of Commerce.

SUMMARY: As a result of this expedited sunset review, the Department of Commerce (Commerce) finds that revocation of the countervailing duty order on polyethylene terephthalate film, sheet, and strip (PET film) from India would be likely to lead to continuation or recurrence of countervailable subsidies as indicated in the “Final Results of Sunset Review” section of this notice.

DATES: Applicable November 4, 2019.

FOR FURTHER INFORMATION CONTACT: Elfi Blum, AD/CVD Operations, Office VII, Enforcement and Compliance, International Trade Administration, U.S. Department of Commerce, 1401 Constitution Avenue NW, Washington, DC 20230; telephone: (202) 482-0197.

SUPPLEMENTARY INFORMATION:

Background

On July 1, 2019, Commerce published the initiation of the five-year (sunset) review of the countervailing duty order on PET film from India, pursuant to section 751(c) of the Tariff Act of 1930, as amended (the Act).¹ Commerce received notices of intent to participate in this sunset review from DuPont Teijin Films, Mitsubishi Polyester Film, Inc., SKC, Inc., and Terphane LLC (collectively, domestic interested parties), within the 15-day period specified in 19 CFR 351.218(d)(1)(i). The domestic interested parties claimed interested party status under section 771(9)(C) of the Act as producers of the domestic like product.

¹ See Initiation of Five-Year (Sunset) Reviews, 84 FR 31304 (July 1, 2019).

Commerce received adequate substantive responses to the Notice of Initiation from the domestic interested parties within the 30-day period specified in 19 CFR 351.218(d)(3)(i). Commerce received no substantive response from any respondent interested parties. In accordance with section 751(c)(3)(B) of the Act and 19 CFR 351.218(e)(1)(ii)(C)(2), Commerce conducted an expedited (120-day) sunset review of the countervailing duty order on PET film from India.²

² See Notice of Countervailing Duty Order: Polyethylene Terephthalate Film, Sheet, and Strip from India, 67 FR 44179 (July 1, 2002) (Order).

Scope of the Order

For purposes of the order, the products covered are all gauges of raw, pretreated, or primed polyethylene terephthalate film, sheet and strip, whether extruded or coextruded. Excluded are metallized films and other finished films that have had at least one of their surfaces modified by the application of a performance-enhancing resinous or inorganic layer of more than 0.00001 inches thick. Imports of PET film are classifiable in the Harmonized Tariff Schedule of the United States (HTSUS) under item number 3920.62.00.90. HTSUS subheadings are provided for convenience and customs purposes. The written description of the scope of the order is dispositive.

Analysis of Comments Received

All issues raised in this review, including the likelihood of continuation or recurrence of countervailable subsidies and the net countervailable subsidy likely to prevail if the order were revoked, are addressed in the Issues and Decision Memorandum.³ The Issues and Decision Memorandum is a public document and is on file electronically via Enforcement and Compliance's Antidumping and Countervailing Duty Centralized Electronic Services System (ACCESS). ACCESS is available to registered users at http://access.trade.gov, and to all parties in the Central Records Unit, Room B8024 of the main Commerce building. In addition, a complete version of the Issues and Decision Memorandum can be accessed directly at https://enforcement.trade.gov/frn/index.html. A list of the issues discussed in the Issues and Decision Memorandum is attached at the appendix to this notice. The signed and electronic versions of the Issues and Decision Memorandum are identical in content.

³ See Memorandum, “Issues and Decision Memorandum for the Final Results of the Expedited Third Sunset Review of the Countervailing Duty Order on Polyethylene Terephthalate Film, Sheet, and Strip from India,” dated concurrently with, and hereby adopted by, this notice (Issues and Decision Memorandum).

Final Results of Sunset Review

Commerce determines that revocation of the countervailing duty order on PET film from India would be likely to lead to continuation or recurrence of countervailable subsidies at the following rates:

Manufacturers/exporters | Subsidy rates (percent ad valorem)
Ester Industries Ltd | 20.46
Garware Polyester Ltd | 26.70
Polyplex Corporation Ltd | 15.82
All Others | 22.50

Administrative Protective Order

This notice serves as the only reminder to parties subject to administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

Notification to Interested Parties

Commerce is issuing and publishing these final results and notice in accordance with sections 751(c), 752(c), and 777(i)(1) of the Act and 19 CFR 351.221(c)(5)(ii).

Dated: October 29, 2019.
Christian Marsh,
Deputy Assistant Secretary for Enforcement and Compliance.

Appendix

List of Topics Discussed in the Final Decision Memorandum

I. Summary

II. Background

III. History of the Order

IV. Scope of the Order

V. Discussion of the Issues

1. Likelihood of Continuation or Recurrence of a Countervailable Subsidy

2. Net Countervailable Subsidy Likely to Prevail

3. Nature of the Subsidy

VI. Final Results of Sunset Review

VII. Recommendation

[FR Doc. 2019-24033 Filed 11-1-19; 8:45 am]

BILLING CODE 3510-DS-P